DEPARTMENT OF ENERGY

Federal Energy Regulatory Commission

[Project No. 15088-000]

Daybreak Power, Inc.; Notice of Surrender of Preliminary Permit

Take notice that Daybreak Power, Inc., permittee for the proposed Halverson Canyon Pumped Storage Project No. 15088, has requested that its preliminary permit be terminated. The permit was issued on June 28, 2021 and would have expired on May 31, 2025. The project would have been located at the U.S. Bureau of Reclamation's Lake Roosevelt in Lincoln County, Washington.

The preliminary permit for Project No. 15088 will remain in effect until the close of business, August 9, 2023. But, if the Commission is closed on this day, then the permit remains in effect until the close of business on the next day in which the Commission is open.¹ New applications for this site may not be submitted until after the permit surrender is effective.

¹ 18 CFR 385.2007(a)(2) (2020).

Dated: July 10, 2023.
Kimberly D. Bose,
Secretary.

[FR Doc. 2023-14988 Filed 7-13-23; 8:45 am]

BILLING CODE 6717-01-P